DEPARTMENT OF COMMERCE

International Trade Administration

[A-588-852]

Notice of Final Results of Antidumping Duty New Shipper Review: Structural Steel Beams From Japan

AGENCY: Import Administration, International Trade Administration, Department of Commerce.

ACTION: Notice of final results in the antidumping duty new shipper review of structural steel beams from Japan.

SUMMARY: On December 6, 2001, the Department of Commerce (“Department”) published the preliminary results of the new shipper review of the antidumping duty order on structural steel beams from Japan. This review covers one producer/exporter. The period of review (“POR”) is February 11, 2000 through November 30, 2000.

No comments were submitted by the parties and we have made no changes in the programming. Therefore, the final results do not differ from the preliminary results. The final weighted-average dumping margin for the reviewed firm is listed below in the section entitled “Final Results of the Review.”

EFFECTIVE DATE: March 1, 2002.

FOR FURTHER INFORMATION CONTACT: Juanita H. Chen or James C. Doyle, Enforcement Group III, Import Administration, International Trade Administration, U.S. Department of Commerce, 1401 Constitution Avenue, NW, Washington, DC 20230; telephone: 202-482-0409, or 202-482-0159, respectively.

SUPPLEMENTARY INFORMATION:

The Applicable Statute and Regulations

Unless otherwise indicated, all citations to the Tariff Act of 1930, as amended (“Act”), are references to the provisions effective January 1, 1995, the effective date of the amendments made to the Act by the Uruguay Round Agreements Act. In addition, unless otherwise indicated, all citations to the Department's regulations are to the regulations codified at 19 CFR part 351 (2001).

Background

On December 6, 2001, the Department published the preliminary results of the new shipper review of the antidumping duty order on structural steel beams from Japan. See Notice of Preliminary Results of Antidumping Duty New Shipper Review: Structural Steel Beams from Japan, 66 FR 63365 (December 6, 2001). This review covers one producer/exporter, Yamato Kogyo Co., Ltd. The POR is February 11, 2000 through November 30, 2000. We invited parties to comment on our preliminary results of review. The Department received no comments from any party on the preliminary results of review. The Department has conducted this new shipper review in accordance with section 751 of the Act.

Scope of Review

For purposes of this review, the products covered are doubly-symmetric shapes, whether hot or cold-rolled, drawn, extruded, formed or finished, having at least one dimension of at least 80 mm (3.2 inches or more), whether of carbon or alloy (other than stainless) steel, and whether or not drilled, punched, notched, painted, coated, or clad. These products (“Structural Steel Beams”) include, but are not limited to, wide-flange beams (“W” shapes), bearing piles (“HP” shapes), standard beams (“S” or “I” shapes), and M-shapes.

All products that meet the physical and metallurgical descriptions provided above are within the scope of this review unless otherwise excluded. The following products, are outside and/or specifically excluded from the scope of this review:

• Structural steel beams greater than 400 pounds per linear foot or with a web or section height (also known as depth) over 40 inches.

The merchandise subject to this review is classified in the Harmonized Tariff Schedule of the United States (“HTSUS”) at subheadings: 7216.32.0000, 7216.33.0030, 7216.33.0060, 7216.33.0090, 7216.50.0000, 7216.61.0000, 7216.69.0000, 7216.91.0000, 7216.99.0000, 7228.70.3040, 7228.70.6000. Although the HTSUS subheadings are provided for convenience and U.S. Customs Service (“Customs”) purposes, the written description of the merchandise under review is dispositive.

Analysis of Comments Received

No parties submitted comments on the preliminary results of review. Accordingly, there is no concurrent issues and decision memorandum or analysis memorandum issued with these final results of review.

Changes Since the Preliminary Results

We have made no changes in programming since the preliminary results of review.

Final Results of Review

We determine that the following percentage weighted-average margin exists for the period February 11, 2000 through November 30, 2000:

Structural Steel Beams
Producer/manufacturer/exporter | Weighted-average margin (percent)
Yamoto Kogyo Co., Ltd | 0.00

Assessment

The Department shall determine, and U.S. Customs shall assess, antidumping duties on all appropriate entries. In accordance with 19 CFR 351.212(b), we have calculated exporter/importer-specific assessment rates. We calculated importer-specific duty assessment rates on a unit value per metric ton basis by summing the dumping margins on U.S. sales, and then dividing this sum by the total metric tons of all U.S. sales examined. Based on our determination in this review, we will instruct Customs not to assess antidumping duties on the merchandise subject to review.

Cash Deposit Requirements

The following deposit requirements will be effective upon publication of this notice of final results of new shipper review for all shipments of structural steel beams from Japan entered, or withdrawn from warehouse, for consumption on or after the date of publication, as provided by section 751(a)(1) of the Act: (1) For the reviewed company listed above, no cash deposit rate will be required; (2) for previously reviewed or investigated companies not listed above, the cash deposit rate will continue to be the company-specific rate published for the most recent period; (3) if the exporter is not a firm covered in this review, a prior review, or the original less than fair value (“LTFV”) investigation, but the manufacturer is, the cash deposit rate will be the rate established for the most recent period for the manufacturer of the merchandise; and (4) the cash deposit rate for all other manufacturers or exporters will continue to be the “all others” rate of 31.98 percent established in the LTFV investigation. See Notice of Final Determination of Sales at Less Than Fair Value: Structural Steel Beams from Japan, 65 FR 24182 (April 25, 2000); Structural Steel Beams from Japan: Notice of Antidumping Duty Order, 65 FR 37960 (June 19, 2000).

These deposit requirements shall remain in effect until publication of the final results of the next administrative review.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (“APO”) of their responsibility concerning the return or destruction of proprietary information disclosed under APO in accordance with 19 CFR 351.305. Timely written notification of the return/destruction of APO materials or conversion to judicial protective order is hereby requested. Failure to comply with the regulations and terms of an APO is a violation which is subject to sanction.

We are issuing and publishing these results and notice in accordance with sections 751(a)(1) and 777(i) of the Act.

Dated: February 14, 2002.
Faryar Shirzad,
Assistant Secretary for Import Administration.

[FR Doc. 02-4923 Filed 2-28-02; 8:45 am]

BILLING CODE 3510-DS-P